DEPARTMENT OF TRANSPORTATION

Pipeline and Hazardous Materials Safety Administration

[Docket No: PHMSA-2022-0009]

Pipeline Safety: Information Collection Activities: Natural Gas Distribution Infrastructure Safety and Modernization Grant Program

ACTION: Notice and request for comments.

SUMMARY: In compliance with the Paperwork Reduction Act of 1995, this notice announces that the information collection request abstracted below is being forwarded to the Office of Management and Budget (OMB) for review and comment. A Federal Register notice with a 60-day comment period soliciting comments on the information collections was published on June 16, 2022.

DATES: Interested persons are invited to submit comments on or before December 5, 2022.

ADDRESSES: The public is invited to submit comments regarding these information collection requests, including suggestions for reducing the burden, to Office of Management and Budget, Attention: Desk Officer for the Office of the Secretary of Transportation, 725 17th Street NW, Washington, DC 20503. Comments can also be submitted electronically at www.reginfo.gov/public/do/PRAMain.

FOR FURTHER INFORMATION CONTACT: Angela Hill by telephone at 202-680-2034 or by email at angela.hill@dot.gov.

SUPPLEMENTARY INFORMATION:

I. Background

Title 5, Code of Federal Regulations (CFR) section 1320.8(d), requires the Pipeline and Hazardous Materials Safety Administration (PHMSA) to provide interested members of the public and affected agencies the opportunity to comment on information collection and recordkeeping requests before they are submitted to OMB for approval. In accordance with this regulation, on June 16, 2022, PHMSA published a Federal Register notice (87 FR 36374) with a 60-day comment period soliciting comments on its intent to request OMB's three-year approval of an information collection titled: “The Natural Gas Distribution Infrastructure Safety and Modernization Grant Program” under OMB Control No. 2137-0641.

During the 60-day comment period, PHMSA received comments from the American Public Gas Association (APGA), the Distribution Contractors Association (DCA), and the Plastics Pipe Institute (PPI). Both DCA and PPI submitted comments in general support of the information collection. APGA likewise expressed support for this information collection request in that it facilitates the distribution of allocated grant dollars. APGA also provided comments on various aspects of the information collection request. The comments, organized by topic, are summarized and addressed below.

II. Comment Summary

A summary of comments and PHMSA responses are detailed below.

A. Estimated Burden

APGA commented that due to the highly technical and granular data required to complete the grant application, the actual burden hours exceeded PHMSA's 82-hours' estimate. Specifically, APGA stated “[d]ue to the quantity of highly technical and granular data required in this application, it has been the experience of APGA members that the application takes more than 82 hours to complete. This is especially true during the first iteration of the application. The application expands beyond routine pipeline safety, design, construction, and integrity management questions to include areas of less familiarity with the average applicant. Many have had to rely upon subject matter experts in the areas of grant writing, environmental mitigation strategies, and cyber security guidelines.” APGA estimated that the average initial application required nearly 200 hours to complete. PHMSA agrees that the application requires a variety of meticulous details that may take additional time to collect in order to properly prepare an application that complies with the Notice of Funding Opportunity (NOFO). PHMSA also believes that future rounds of NGDISM NOFOs will require less time given the number of frequently asked questions (FAQs) that are now available as well as PHMSA's intention to incorporate many of APGA's suggested edits in future NOFO iterations. As such, PHMSA has agreed to increase the estimated burden to 32,000 hours, for an average of 160 hours per applicant.

B. Technical Issues With Unique Entity Identifier and Grants.gov

APGA commented that their members experienced frustration during the process of obtaining a Unique Entity Identifier through SAM.gov and with changing the settings in Grants.gov to complete the application. APGA acknowledged that these areas are outside of PHMSA's control. PHMSA acknowledges that many applicants experienced technical issues with these two government sites and recommends applicants utilize the Grants.gov and SAM.gov helpdesks to resolve any future technical issues. For issues with Grants.gov, applicants can call 1-800-518-4726 or email support@grants.gov. For issues with SAM.gov, applicants can call 866-606-8220 or create an incident ticket with the Federal Service Desk at the following website: www.fsd.gov. Although PHMSA stands ready to provide any assistance it can, all applicants are ultimately responsible for working directly with both SAM.gov and Grants.gov to resolve technical issues.

C. Suggestions To Enhance the Quality, Utility, and Clarity of the Collected Information

APGA provided PHMSA with specific comments on various aspects of the NOFO's Project Narrative requirements. In response to APGA, PHMSA will take their comments into consideration when drafting future NOFOs for this grant program. Summaries of the APGA comments, per section of the NOFO, are detailed below.

1. Explanation of Evaluation and Select Criteria Equivalence

APGA suggested that Section 8 of the Project Narrative either be removed or modified as it is largely duplicative of other sections, adds unnecessary burden on applicants, and further constrains applicants' ability to provide complete answers given the page requirements. APGA suggested if PHMSA chooses to keep this section, PHMSA should clarify whether applicants are expected to go through each of the 23 elements in Section E.1 and reiterate their responses, or whether other content is being requested.

2. Project Narrative Cover Letter

APGA commented that the “Organization Name” section of the cover letter section requested information that is confusing given the goal of the NGDISM Grant Program. APGA suggested PHMSA modify the language for clarity.

3. Project Location

APGA commented that not all projects are geospatially specific and that this element should be broadened to include the replacement of assets throughout a service area or the purchase of equipment.

4. Project Schedule

APGA commented that many applicants were in the early stages of project design when applying for a grant and exact project schedules and milestones may not have been available at the time of application. APGA suggested that PHMSA edit the language in this section for clarity. APGA also suggested generally referring to the period-of-performance to ensure consistency during future application years should the period-of-performance change.

5. Environmental Outputs and Objectives

APGA commented that applicants may find it helpful for PHMSA to provide examples of how applicants should describe methane mitigation for their projects, whether in the form of application instructions or in an FAQ document.

6. Buy America

APGA commented that there are many commonly used materials throughout natural gas distribution systems that are known to be non-compliant with the Buy America requirements in Section 70914 of the Infrastructure Investment and Jobs Act, such as large steel fittings and piping. APGA encourages PHMSA to explore creating a specific waiver for those materials for all NGDISM grant recipients.¹

¹ While the IIJA's Buy America requirements apply to this program, the Buy American Act (41 U.S.C. 8301, et seq.) does not apply to this program.

7. Critical Infrastructure Security and Resilience

APGA suggested referencing the Transportation Security Administration's Pipeline Security Guidelines in lieu of the Presidential Policy Directive. APGA believes these guidelines are more specific to the pipeline industry and are more practical for implementation.

8. Environmental Analysis

APGA commented that it is unclear if PHMSA is requesting applicants provide information concerning the nine sections of the Tier 2 Questionnaire in their initial applications. The information appears to be provided for information and planning purposes only. Therefore, for clarity, APGA recommended that it is moved to a separate section of the instructions.

III. Summary of Impacted Collections

The following information is provided for the information collection request: (1) Title of the information collection; (2) OMB control number; (3) Current expiration date; (4) Type of request; (5) Abstract of the information collection activity; (6) Description of affected public; (7) Estimate of total annual reporting and recordkeeping burden; and (8) Frequency of collection.

PHMSA will request a three-year term of approval for this information collection. PHMSA requests comments on the following information:

Title: Natural Gas Distribution Infrastructure Safety and Modernization Grant Program.

OMB Control Number: 2137-0641.

Current Expiration Date: 11/30/2022.

Type of Request: Extension of an approved information collection.

Abstract: This information collection covers the collection of applicant data from municipality- and community-owned utilities that are interested in applying to receive funds from the NGDISM Grant Program. Solicitation for grants under the NGDISM Grant Program is voluntary. No eligible entity is required to apply. To be eligible, however, municipality- and community-owned utilities must meet all the requirements set forth in the law. Therefore, PHMSA must collect certain information from applicants to determine eligibility and evaluate applications. PHMSA must also verify the accuracy of grant requests from approved applicants, in accordance with Title VI of the Civil Rights Act of 1964, Section 504 of the Rehabilitation Act of 1973, and other laws and regulations governing Federal financial assistance programs, including (but not limited to) the Anti-Deficiency Act, the Federal Funding Accountability and Transparency Act (FFATA), the Payment Integrity Information Act of 2019, and 2 CFR part 200, among others. This information collection also covers the collection of data from grant recipients. PHMSA expects to receive approximately 200 applications from potential grantees annually over the next four years. PHMSA estimates that it will take the 200 applicants approximately 160 hours per applicant to compile and submit the forms required to complete the application process for an annual burden of 32,000 hours. PHMSA estimates that 100 grant recipients will, on eight occasions over the course of one year, spend 2.5 hours, or 20 hours annually, submitting post-award reports for an annual burden of 2,000 hours. Therefore, PHMSA estimates that there will be a total of 1,000 responses (200 applications plus 800 post-award reports) for an aggregate total annual burden for the information collection of 34,000 hours (32,000 hours for applications plus 2,000 hours for post-award reports).

Affected Public: Municipality- and Community-owned Utilities.

Annual Burden:

Estimated number of responses: 1,000.

Estimated annual burden hours: 34,000.

Frequency of Collection: One-time application, grant reports no more than quarterly, to be followed by disbursement requests and closeout.

Comments are invited on:

(a) The need for this information collection for the proper performance of the functions of the Agency, including whether the information will have practical utility;

(b) The accuracy of the Agency's estimate of the burden of the proposed collection of information, including the validity of the methodology and assumptions used;

(c) Ways to enhance the quality, utility, and clarity of the information to be collected;

(d) Ways to minimize the burden of the collection of information on those who are to respond, including the use of appropriate automated, electronic, mechanical, or other technological collection techniques; and,

(e) Additional information that would be appropriate to collect to inform the reduction in risk to people, property, and the environment due to excavation damages.

Authority: The Paperwork Reduction Act of 1995; 44 U.S.C. chapter 35, as amended.

Issued in Washington, DC, on October 31, 2022, under authority delegated in 49 CFR 1.97.
Alan K. Mayberry,
Associate Administrator for Pipeline Safety.

[FR Doc. 2022-24068 Filed 11-3-22; 8:45 am]

BILLING CODE 4910-60-P